DEPARTMENT OF COMMERCE

National Oceanic and Atmospheric Administration

[RTID 0648-XB908]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ). The Council continues to follow all public safety measures related to COVID-19 and intends to do so for this meeting.

DATES: The meeting will be held on Tuesday, April 12, Wednesday, April 13 and Thursday, April 14, 2022, beginning at 1 p.m. on Tuesday and 9 a.m. on Wednesday and Thursday.

ADDRESSES:

Meeting address: The meeting will be held at the Hilton Hotel, 20 Coogan Boulevard, Mystic, CT 06355; telephone: (860) 572-0731; online at https://www.hilton.com/en/hotels/mysmhhf-hilton-mystic/. Join the webinar at https://register.gotowebinar.com/register/2725063024732767759.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, April 12, 2022

After brief announcements, Council members and staff will each introduce themselves. Next, the Council will receive reports on recent activities from its Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, the Advisory Committee to the U.S. Section of the International Commission for the Conservation of Atlantic Tunas (ICCAT), and the NMFS Highly Migratory Species Advisory Panel. Next, the Council will receive the Monkfish Committee report and initiate Framework Adjustment 13 to the Monkfish Fishery Management Plan (FMP). This action will include 2023-25 specifications for the fishery and other management measures. The Council then will go into the Habitat Committee report. First, the Council will discuss and take final action on a framework to designate one or more Habitat Areas of Particular Concern (HAPCs) in Southern New England. The Council also will receive an update on offshore energy, aquaculture, cables, and other habitat-related work and approve a comment letter on the Coast Guard's Port Access Route Study (PARS) for approaches to Maine, New Hampshire, and Massachusetts. The Council then will adjourn for the day.

Wednesday, April 13, 2022

The Council will begin the second day of its meeting with the Scallop Committee report, which will cover three issues: (1) An update on work being conducted by the Scallop Survey Working Group; (2) next steps for the Evaluation of the Atlantic Sea Scallop Rotational Management Program final report, which the Council received during the February 2022 meeting; and (3) potential approval of a scoping document for limited access leasing. Next, GARFO staff will provide an overview of the agency's efforts to develop bycatch reduction measures to reduce takes of sea turtles in trawl fisheries. The Council will provide comments on this action. The Council then will receive a report on outcomes from the March 2022 meeting of the Northeast Trawl Advisory Panel (NTAP). Following this report, the Northeast Fisheries Science Center will present the peer review results for recent research track assessments for Gulf of Maine haddock, Illex squid, and butterfish.

After the lunch break, the Council will receive a presentation from the Gulf of Maine Research Institute on its Maximized Retention Electronic Monitoring Program for Groundfish Monitoring Amendment 23. This presentation will be followed by the Groundfish Committee report. First, the Council will initiate Framework Adjustment 65 to the Groundfish FMP, which will include: (1) 2023 total allowable catches (TACs) for U.S./Canada shared resources on Georges Bank; (2) 2023-24 specifications for Georges Bank cod and Georges Bank yellowtail flounder; (3) 2023-25 specifications for 14 additional groundfish stocks; (4) revised rebuilding plans for Gulf of Maine cod and Southern New England/Mid-Atlantic winter flounder; (6) additional measures to promote stock rebuilding; and (7) acceptable biological catch (ABC) control rule revisions. Next, the Council will discuss potential modifications to its 2022 groundfish priorities to address possible changes to Atlantic cod management units. The Council then will adjourn for the day.

Thursday, April 14, 2022

The Council will lead off the third day of its meeting with an update on the Mid-Atlantic Fishery Management Council's work to rebuild Atlantic mackerel. The Council will have the opportunity to provide comments and feedback on the mackerel rebuilding program. Next, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. The Northeast Fisheries Science Center then will present the State of the Ecosystem 2022 report for New England. The Council's Scientific and Statistical Committee will provide recommendations on this report prior to the Council's discussion. Next, the Council will take up the Ecosystem-Based Fishery Management (EBFM) Committee report. This will include: (1) An update on planning for EBFM informational outreach workshops and an introduction to the workshop facilitator; and (2) committee recommendations on a plan to conduct a Prototype Management Strategy Evaluation (MSE) for EBFM and the Georges Bank example Fishery Ecosystem Plan (eFEP).

Following the lunch break, the Council will receive an update from GARFO on the status of the Industry-Funded Monitoring (IFM) Program for the Atlantic herring fishery, which will be followed by Council discussion. Then, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: March 21, 2022.
Tracey L. Thompson,
Acting Deputy Director, Office of Sustainable Fisheries, National Marine Fisheries Service.

[FR Doc. 2022-06256 Filed 3-23-22; 8:45 am]

BILLING CODE 3510-22-P